DEPARTMENT OF COMMERCE

National Oceanic and Atmospheric Administration

[I.D. 122001A]

New England Fishery Management Council; Public Meeting

AGENCY: National Marine Fisheries Service (NMFS), National Oceanic and Atmospheric Administration (NOAA), Commerce.

ACTION: Public meeting.

SUMMARY: The New England Fishery Management Council (Council) will hold a three-day Council meeting on March 23-25, 2004, to consider actions affecting New England fisheries in the exclusive economic zone (EEZ).

DATES: The meeting will be held on Tuesday, March 23, 2004 beginning at 9:00 a.m. and on Wednesday and Thursday, March 24 and 25, beginning at 8:30 a.m.

ADDRESSES: The meeting will be held at the Tavern on the Harbor, 30 Western Avenue, Gloucester, MA, 01930; telephone (978)283-4200. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, March 23, 2004

Following introductions, the Council will receive reports on recent activities from the Council Chairman and Executive Director, the NMFS Regional Administrator, Northeast Fisheries Science Center and Mid-Atlantic Fishery Management Council liaisons, NOAA General Counsel and representatives of the U.S. Coast Guard, NMFS Enforcement and the Atlantic States Marine Fisheries Commission. During the Herring Committee report to follow, the committee chairman will review the range of alternatives under consideration for inclusion in Amendment 1 to the Herring Fishery Management Plan (FMP). The Council will review recommendations from the Herring Committee, as well as recommendations from the Herring Advisory Panel and Plan Development Team. Alternatives under consideration may address management area boundaries, area-specific Total Allowable Catches (TACs), TAC set-asides and in-season adjustments, a limited access program, a quota allocation and/or days-at-sea program, measures to address fixed gear fisheries, and essential fish habitat and bycatch.

Wednesday, March 24, 2004

During the Wednesday session, the Council will review and possibly approve positions concerning re-authorization of the Magnuson-Stevens Fishery Conservation and Management Act. Council staff will then summarize the results of the scoping meetings recently convened in anticipation of the development of an Omnibus Essential Fish Habitat Amendment. The Council also will discuss and approve comments on an Advanced Notice of Proposed Rulemaking concerning possible changes to NOAA Fisheries Essential Fish Habitat Guidelines. The Council will use the remainder of the day to consider final action on Framework Adjustment 40 to the Northeast Multispecies FMP. The framework includes management alternatives for the use of “B” days-at-sea as discussed in Amendment 13 to the FMP. B days are among the effort controls included in the amendment which has not yet been approved by the Secretary of Commerce.

Thursday, March 25, 2004

On Thursday, the Council's Research Steering Committee will report on and ask for approval of a policy that addresses the review and use of new research in the fishery management process. The Council will then review and intends to approve comments on the proposed rule to implement Amendment 10 to the Atlantic Sea Scallop FMP. Following this agenda item the rest of the day will be spent discussing potential improvements to Council process as it concerns committee organization and decision-making, as well as issues related to fleet structure and over-capitalization issues in the groundfish fishery. Any other outstanding business will be addressed at the end of the day.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: March 1, 2004.
Peter Fricke,
Acting Director, Sustainable Fisheries, National Marine Fisheries Service.

[FR Doc. 04-4873 Filed 3-3-04; 8:45 am]

BILLING CODE 3510-22-S